DEPARTMENT OF HOMELAND SECURITY

U.S. Citizenship and Immigration Services

Agency Information Collection Activities: Notice of Appeal of Decision Under Section 201 or 245A, Form I-694, OMB Control No. 1615-0034; Extension of a Currently Approved Information Collection; Comment Request

ACTION: 30-Day notice of information collection under review.

The Department of Homeland Security (DHS), U.S. Citizenship and Immigration Services (USCIS) will be submitting the following information collection request to the Office of Management and Budget (OMB) for review and clearance in accordance with the Paperwork Reduction Act (PRA) of 1995. The information collection was previously published in the Federal Register on April 9, 2012, at 77 FR 21104, allowing for a 60-day public comment period. USCIS received one comment for this information collection in response to the 60-day notice, and acknowledges receipt.

The purpose of this notice is to allow an additional 30 days for public comments. Comments are encouraged and will be accepted until August 15, 2012. This process is conducted in accordance with 5 CFR 1320.10.

Written comments and/or suggestions regarding the item(s) contained in this notice, especially regarding the estimated public burden and associated response time, should be directed to DHS, and to the Office of Information and Regulatory Affairs, OMB, USCIS Desk Officer. Comments may be submitted to: Chief, Regulatory Coordination Division, Office of Policy and Strategy, USCIS, 20 Massachusetts Avenue NW., Washington, DC 20529-2020. Comments may also be submitted to DHS via email at USCISFRComment@dhs.gov or via the Federal eRulemaking Portal Web site at http://www.Regulations.gov under e-Docket number USCIS-2007-0014, and to the OMB USCIS Desk Officer via facsimile at 202-395-5806 or via oira_submission@omb.eop.gov. When submitting comments by email please make sure to add OMB Control Number 1615-0034 in the subject box. All submissions received must also include the agency name and e-Docket ID.

Regardless of the method used for submitting comments or material, all submissions will be posted, without change, to the Federal eRulemaking Portal at http://www.Regulations.gov, and will include any personal information you provide. Therefore, submitting this information makes it public. You may wish to consider limiting the amount of personal information that you provide in any voluntary submission you make to DHS. DHS may withhold information provided in comments for public viewing that it determines may impact the privacy of an individual or is offensive. For additional information please read the Privacy Act notice that is available via the link in the footer of http://www.Regulations.gov.

Note: The address listed in this notice should only be used to submit comments concerning the extension of this information collection. Please do not submit requests for individual case status inquiries to this address. If you are seeking information about the status of your individual case, please check “My Case Status” online at: https://egov.uscis.gov/cris/Dashboard.do, or call the USCIS National Customer Service Center at 1-800-375-5283 (TTY 1-800-767-1833).

Written comments and suggestions from the public and affected agencies should address one or more of the following four points:

(1) Evaluate whether the proposed collection of information is necessary for the proper performance of the functions of the agency, including whether the information will have practical utility;

(2) Evaluate the accuracy of the agencies' estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension of a currently approved information collection.

(2) Title of the Form/Collection: Notice of Appeal of Decision Under Section 210 or 245A.

(3) Agency form number, if any, and the applicable component of the Department of Homeland Security sponsoring the collection: Form I-694; USCIS.

(4) Affected public who will be asked or required to respond, as well as a brief abstract: Primary: Individuals or Households. This information collection will be used by USCIS in considering appeals of denials or termination of temporary and permanent residence status by legalization applicants and special agricultural workers, under sections 210 and 245A of the Immigration and Nationality Act, and related applications for waiver of grounds of inadmissibility.

(5) An estimate of the total number of respondents and the amount of time estimated for an average respondent to respond: 50 responses at 30 minutes (0.5 hour) per response.

(6) An estimate of the total public burden (in hours) associated with the collection: 25 annual burden hours.

If you need a copy of this information collection instrument, please visit the Federal eRulemaking Portal Web site at http://www.Regulations.gov. If additional information is required contact: USCIS, Regulatory Coordination Division, Office of Policy and Strategy, 20 Massachusetts Avenue NW., Washington, DC 20529-2020, telephone (202) 272-8377.

Dated: July 11, 2012.
Laura Dawkins,
Chief, Regulatory Coordination Division, Office of Policy and Strategy, U.S. Citizenship and Immigration Services, Department of Homeland Security.

[FR Doc. 2012-17225 Filed 7-13-12; 8:45 am]

BILLING CODE 9111-97-P